DEPARTMENT OF COMMERCE

Economic Development Administration

[Docket No.: 100210082-0082-01]

Solicitation of Applications for the FY 2010 University Center Economic Development Program Competition in EDA's Austin and Denver Regional Offices

AGENCY: Economic Development Administration (EDA), Department of Commerce.

ACTION: Notice and request for applications.

SUMMARY: EDA is soliciting competitive applications from accredited institutions of higher education, including community colleges, and from consortia of accredited institutions of higher education for FY 2010 University Center Economic Development Program funding in the geographic areas served by its Austin and Denver regional offices. EDA's mission is to lead the federal economic development agenda by promoting innovation and competitiveness, preparing American regions for growth and success in the worldwide economy. Institutions of higher education have many assets and are able to establish and operate University Centers in partnership with EDA. These EDA-sponsored University Centers conduct research; provide technical assistance to tribal entities, local governments, and public and private sector organizations; and undertake other activities with the goal of enhancing regional economic development by promoting a favorable business environment to attract private capital investment and higher-skill, higher-wage jobs.

DATES: The closing date and time for receipt of applications for funding under the FY 2010 University Center Economic Development Program competition is June 1, 2010 at 5 p.m. CST for applicants in the Austin regional office's service area and 5 p.m. MST for applicants in the Denver regional office's service area. The Austin regional office will hold an informational teleconference for prospective applicants on April 1, 2010 at 1 p.m. CST. The Denver regional office will hold its informational teleconference call on March 19, 2010 at 1 p.m. MST. For instruction regarding these teleconferences, please see the information provided below under “Informational Teleconferences.”

Subject to the availability of funding, successful applicants should expect to receive grant awards within approximately sixty days from the application closing date and time(s) set out in this notice and request for applications. The anticipated initial award will have a twelve-month duration with an estimated start date on or about August 1, 2010.

Application Submission Requirements: Applicants are advised to read carefully the instructions contained in section IV of the Federal Funding Opportunity (FFO) announcement for this request for applications. To access the FFO announcement, please see the Web sites listed below under “Electronic Access.”

Applications may be submitted in two formats: (i) Electronically in accordance with the procedures provided on www.grants.gov; or (ii) in paper format to the addresses provided below. EDA will not accept facsimile transmissions of applications. The content of the application is the same for paper submissions as it is for electronic submissions. A complete application must contain all the items listed in the Checklist of Application Materials, which is attached as an Exhibit to the FFO announcement.

You may obtain a paper application package by contacting the designated point of contact listed below under “For Further Information Contact” for the EDA regional office servicing your geographic area. Applicants applying electronically through www.grants.gov may access the application package by following the instructions provided on www.grants.gov.

Paper Submissions: Applicants in Arkansas, Louisiana, New Mexico, Oklahoma or Texas should submit paper submissions (via postal mail, overnight delivery, or hand-delivery) to: FY 2010 University Center Program Competition, Economic Development Administration, Austin Regional Office, 504 Lavaca, Suite 1100, Austin, Texas 78701-2858.

Applicants in Colorado, Iowa (excluding Muscatine and Scott counties), Kansas, Missouri, Montana, Nebraska, North Dakota, South Dakota, Utah or Wyoming should submit paper submissions (via postal mail, overnight delivery, or hand-delivery) to: FY 2010 University Center Program Competition, Economic Development Administration, Denver Regional Office, 410 17th Street, Suite 250, Denver, Colorado 80202.

Department of Commerce mail security measures may delay receipt of United States Postal Service mail for up to two weeks. Therefore, applicants who submit paper submissions are advised to use a guaranteed overnight delivery service.

Electronic Submissions: Applicants may submit applications electronically in accordance with the instructions provided at www.grants.gov. EDA strongly encourages that applicants not wait until the application closing date to begin the application process through www.grants.gov. The preferred file format for electronic attachments (e.g., the Project Narrative and attachments to Form ED-900) is portable document format (PDF); however, EDA will accept electronic files in Microsoft Word, WordPerfect, or Excel formats.

Applicants should access the following link for assistance in navigating www.grants.gov and for a list of useful resources: http://www.grants.gov/help/help.jsp. If you do not find an answer to your question under “Applicant FAQs,” try consulting the “Applicant User Guide.” If you still cannot find an answer to your question, contact www.grants.gov via email at support@grants.gov or telephone at 1-800-518-4726. The hours of operation for www.grants.gov are Monday-Friday, 7 a.m. to 9 p.m. Eastern Time (except for federal holidays).

FOR FURTHER INFORMATION CONTACT: For additional information or for a paper copy of the application package, the designated contact person in the Austin regional office is Camille Osborne. Ms. Osborne may be reached at cosborne@eda.doc.gov or at 512.381.8145. The designated contact person in the Denver regional office is Forlesia S. Willis. Ms. Willis may be reached at fwillis@eda.doc.gov or at 303.844.5452. EDA's website at http://www.eda.gov also has information on EDA and its programs, including the University Center Economic Development Program.

SUPPLEMENTARY INFORMATION:

Program Information: EDA's mission is to lead the federal economic development agenda by promoting innovation and competitiveness, preparing American regions for growth and success in the worldwide economy. EDA fulfills its mission by helping our partners across the nation create wealth and minimize poverty by promoting a favorable business environment to attract private capital investment and higher-skill, higher-wage jobs through capacity-building, planning, infrastructure, research grants and strategic initiatives. Institutions of higher education have many assets that can help address regional economic problems and opportunities, such as faculty, staff, students, libraries, laboratories, facilities, and computer systems. With funding from EDA, institutions of higher education and consortia of institutions of higher education establish and operate University Centers. These EDA-sponsored University Centers conduct applied research, provide technical assistance to public and private sector organizations, and conduct other activities with the goal of enhancing regional economic development.

EDA began administering the University Center Economic Development Program as a competitive multi-year program in FY 2004. Under this multi-year program designation, EDA holds University Center Economic Development Program competitions each fiscal year in two of its six regional offices. For example, in FY 2004 and 2007, EDA solicited applications under a competition held in the Austin and Denver regional offices, and in FY 2005 and 2008, EDA solicited applications in the Philadelphia and Chicago regional offices. In FY 2006 and 2009, EDA solicited applications in the Atlanta and Seattle regional offices. Pursuant to its fiscal year schedule, for FY 2010, EDA announces that it will hold the competition in the Austin and Denver regional offices.

EDA encourages the submission of applications that will significantly benefit regions with distressed economies. Distress may exist in a variety of forms, including high levels of unemployment, low income levels, large concentrations of low-income families, and significant declines in per capita income because of large numbers (or high rates) of business failures, sudden major layoffs or plant closures, military base closures, natural or other major disasters, depletion of natural resources or reduced tax bases, and substantial loss of population because of the lack of employment opportunities. Under the University Center Economic Development Program, EDA seeks to support university-based programs that provide for regional, Statewide or multi-State programs to help foster the creation and retention of higher-skill, higher-wage jobs; attract private capital investment to the region served by the proposed University Center; address regional economic development challenges and opportunities; and enhance long-term regional and national competitiveness in the worldwide marketplace. EDA encourages projects that will collaborate with, interact with, and benefit other EDA investment partners, recipients, and stakeholders, and create synergies with EDA's Public Works, Economic Adjustment, and Planning programs.

To obtain the maximum effect of available program funds, EDA will strive to fund a portfolio of University Centers that, as a group, offer the widest possible coverage in the Austin and Denver regional offices' geographic areas and offer a full range of services tailored appropriately to the region's needs and each sponsoring institution's (or consortium's) strengths. EDA will strive to avoid funding duplicative services wherever practicable.

EDA will not fund University Centers that operate in isolation from other resources at the institution of higher education (or consortium) receiving the award. University Center programs not focused on economic development activities that foster higher-skill, higher-wage job creation and private sector investments are encouraged to seek financial support from other sources.

Electronic Access: The FFO announcement for the FY 2010 University Center Economic Development Program competition is available at www.grants.gov and at http://www.eda.gov/InvestmentsGrants/FFON.xml.

Statutory Authority: EDA's authorizing statute is the Public Works and Economic Development Act of 1965, as amended (42 U.S.C. 3121 et seq.) (PWEDA). The specific authority for the University Center Economic Development Program is section 207 of PWEDA (42 U.S.C. 3147), which authorizes EDA to make grants for the establishment of University Centers. EDA's regulations at 13 CFR parts 300-302 and subpart B of 13 CFR part 306 set out the general and specific regulatory requirements applicable to the University Center Economic Development Program.

EDA's regulations are codified at 13 CFR chapter III. The regulations and PWEDA are accessible on EDA's website at http://www.eda.gov/InvestmentsGrants/Lawsreg.xml.

Funding Availability: Funding appropriated under the Consolidated Appropriations Act, 2010 (Pub. L. 111-117, 123 Stat. 3034 at 3114 (2009)) is available for the economic development assistance programs authorized by PWEDA and for the Trade Adjustment Assistance for Firms Program under the Trade Act of 1974, as amended (19 U.S.C. 2341 et seq.). Funds in the amount of $255,000,000 have been appropriated for FY 2010 and shall remain available until expended.

The funding periods and funding amounts referenced in this competitive solicitation are subject to the availability of funds at the time of award, as well as to Department of Commerce and EDA priorities at the time of award. The Department of Commerce and EDA will not be held responsible for application preparation costs if the University Center Economic Development Program fails to receive funding or is cancelled because of agency priorities. Publication of this competitive solicitation does not obligate the Department of Commerce or EDA to award any specific grant or cooperative agreement or to obligate all or any part of available funds.

In accordance with Congressional guidance, EDA hopes to be able to fund at least one University Center grant in each State. For FY 2010, EDA expects to allocate $7,437,408 to the University Center Economic Development Program. The amount of University Center funding available for competition in FY 2010 is expected to be $1,128,502 for the Austin regional office and $1,380,000 for the Denver regional office. The remaining FY 2010 University Center Economic Development Program funds will be used to continue to support current University Centers selected during the FY 2008 and 2009 competitions in EDA's other four regional offices. Annual awards for the University Centers selected in past years generally have been in the range of $80,000 to $200,000, although regional offices may choose to fund awards under this competition outside of these ranges. Subject to the availability of funding at the time of award, the funds allocated to the University Center Economic Development Program are anticipated to be available until expended.

Catalog of Federal Domestic Assistance (CFDA) Number: 11.303, Economic Development—Technical Assistance.

Applicant Eligibility: An accredited institution of higher education, including a community college, or a consortium of accredited institutions of higher education is eligible to apply for and to receive funding under the University Center Economic Development Program. See section 3(12) of PWEDA (42 U.S.C. 3122(12)) and 13 CFR 300.3. A university-affiliated research foundation also is eligible to apply for and to receive funding under this competitive solicitation, provided it demonstrates that it maintains the full and integral support of the university with respect to its economic development activities, through a letter or other documentation from a university President or Chancellor. For applicants applying as a consortium, one accredited institution must be identified as the lead agent that would have lead responsibility to EDA and to the other members of the consortium for implementing an award. A non-profit organization, in good standing and participating in the institution's proposed project in connection with an application under this competitive solicitation, may partner with a consortium provided that the organization itself is affiliated with and directed by an accredited institution of higher education.

For FY 2010, the University Center Economic Development Program competition is open to eligible applicants in the geographic areas served by EDA's Austin and Denver regional offices. The Austin regional office serves Arkansas, Louisiana, New Mexico, Oklahoma and Texas. The Denver regional office serves Colorado, Iowa (excluding Muscatine and Scott counties), Kansas, Missouri, Montana, Nebraska, North Dakota, South Dakota, Utah and Wyoming.

Project Period: The Austin and Denver regional offices will provide a three-year project period for each University Center selected for funding under the FY 2010 University Center Economic Development Program competition, with the initial award being made for the first year of the project period. The selected University Centers will not have to compete for the second and third years of funding. Funding beyond the initial year is dependent upon the availability of funds, satisfactory performance, and satisfactory progress in achieving milestones and program goals set forth in the three-year scope of work, as determined by EDA and expressed in written notice.

Current University Center operators in the service areas of EDA's Atlanta, Chicago, Philadelphia, and Seattle regional offices will not have to compete for continuation funding in FY 2010, subject to the availability of funds, satisfactory continuing performance, and satisfactory progress in achieving milestones and program goals set forth in the three-year scope of work, as determined by EDA and expressed in a written notice. EDA regional offices will contact current University Center operators in those service areas regarding the procedures for securing FY 2010 continuation funding.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project (i) merits and is not otherwise feasible without an increase to the EDA investment rate; or (ii) will be of no or only incidental benefit to the recipient. See section 204(c)(3) of PWEDA (42 U.S.C. 3144) and 13 CFR 301.4(b)(4).

In the application review process, EDA will consider the nature of the contribution (cash or in-kind) and the amount of the matching share funds. In-kind contributions, fairly evaluated by EDA, may provide the non-federal share of the total project cost. See section 204(b) of PWEDA (42 U.S.C. 3144) and section III.B of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications for funding under the University Center Economic Development Program are subject to the State review requirements imposed by Executive Order 12372, “Intergovernmental Review of Federal Programs,” where applicable.

Evaluation and Selection Procedures: Staff in EDA's Austin or Denver regional office, as applicable, first will undertake a technical review of each application to ensure that all required forms, signatures, and documentation are present and that the application is in compliance with the requirements of this competitive solicitation. Applications failing to meet the technical requirements of this competitive solicitation will not be referred to the review panel for merit review.

Following the technical review, each regional office will convene a panel to review the merits of each application based on the criteria provided under “Evaluation Criteria” below. The review panel will consist of federal employees and may include others recommended by the Regional Director of the applicable regional office. At least three members of the review panel will be EDA staff members. The review panel will evaluate and rate and rank competitively all technically sufficient applications based on the evaluation criteria provided under “Evaluation Criteria” below.

The review panel's rating and ranking of the applications then will be presented to the regional office's Investment Review Committee (IRC). Applications deemed eligible and consistent with EDA's mission and funding priorities are referred to the IRC, which is comprised of EDA staff, to determine which applications for funding are recommended to the Regional Director. Under this notice and request for applications, after reviewing the panel's process and recommendations, the IRC may either (i) forward the panel's ranked list, unaltered and in its entirety, to the Selecting Official, who is the Regional Director of the applicable regional office; or (ii) identify any deficiencies in the review process and direct the review panel (or convene a new panel) to begin the process anew. If the IRC directs the panel to re-evaluate the applications, the review panel will undertake the process again and submit a revised rating and ranking of the applications to the IRC.

Evaluation Criteria: EDA will evaluate applications based on the following criteria. Each criterion is detailed below with an assigned weight.

1. Responsiveness to Objectives of Federal Funding Opportunity (35%). This section shall assess the extent to which the applicant is able to:

• Provide a wide geographic level of service. Priority will be given to applicants whose programs will offer the widest possible coverage in the Austin and Denver regional offices' geographic service areas.

• Leverage other university assets. Priority will be given to University Center applicants whose proposed activities outline specific information on how they will leverage other University assets (such as economic analysis divisions, GIS capabilities, planning specialists, etc.).

• Specifically articulate how the proposed activities of the University Center will address regional needs. Priority will be given to applications that clearly articulate the regional needs and propose activities which specifically address those needs.

2. Alignment with Key Funding Priorities (35%). In addition to meeting the requirements set out in this FFO, all EDA investments must satisfy at least one of the following key funding priorities. Applications that support more than one of the following funding priorities will receive higher priority.

• Support science and technology. Priority will be given to applications that propose to provide specific technical assistance to information technology industries (for example, high technology industries or investments in broadband and smart grid); scientific industries; healthcare industries; or environmental technologies, including technology commercialization.

• Address sudden economic dislocation. Priority will be given to proposed activities in which the University Center will engage to support investments in communities that experienced sudden or severe economic dislocation and job loss due to either auto-industry restructuring or natural disasters.

• Support small and medium-size businesses. Priority will be given to applications that propose specific activities that will support small and medium-size businesses (e.g., ≤ 500 employees or ≤ $7 million in average annual sales).

• Encourage collaborative regional innovation. Priority will be given to proposed activities that will cultivate multi-jurisdictional solutions to regional needs; encourage regional collaboration among economic development organizations; and identify and implement programs that encourage regional stakeholders to link to and build upon unique assets of the region, such as the development and support of innovation clusters.

• Foster global competitiveness. Priority will be given to proposed activities that will help strengthen industry competitiveness through innovation, entrepreneurship, global trade, and rapid growth.

• Environmentally sustainable development. Priority will be given to proposed activities that will promote renewable energy; energy efficiency; or reuse, recycling, or natural resource restoration efforts across the region.

3. Provides High Return on Investment (20%). All applications will be evaluated to determine whether they represent a high return on investment, as measured by the:

• Extent to which the proposed University Center will leverage public-private partnerships. Priority will be given to proposed activities that will generate strong public-private support across the region and leverage private funds.

• Degree to which the proposed University Center and its activities build upon other local, State, regional, federal, and private sector development initiatives. Priority will be given to applications that clearly specify how the proposed activities will build upon the array of local, State, regional, federal, and private sector development efforts occurring in the region to more effectively meet regional needs.

4. Significantly Benefits Regions with Distressed Economies (10%). While all applicants must show how the proposed activities will benefit distressed regions within the service area, EDA will give additional consideration to those applicants that provide concrete evidence outlining how their proposed programs are especially well designed to significantly benefit distressed regions. As outlined in section I.B of the FFO announcement, distress may be defined by areas experiencing high levels of unemployment, low income levels, large concentrations of low-income families, or significant declines in per capita income because of large numbers (or high rates) of business failures, sudden major layoffs or plant closures, military base closures, natural or other major disasters, depletion of natural resources, reduced tax bases, or substantial loss of population because of the lack of employment opportunities.

Selection Factors: EDA expects to fund the highest ranking applications. The Selecting Official normally will follow the recommendations of the review panel. However, the Selecting Official may decide not to make a selection, or he may select an application out of rank order for several reasons, including: (i) A determination that the application better meets the overall objectives of sections 2 and 207 of PWEDA (42 U.S.C. 3121 and 3147); (ii) availability of program funding; (iii) geographic balance in distribution of program funds; (iv) balanced funding for a diverse group of institutions, to include smaller and rural institutions, which may form part of a broader consortium to serve diverse populations and areas within the regional office's territory; (v) the program objectives as provided in section I of the FFO announcement; (vi) the applicant's performance under previous federal financial assistance awards; or (vii) the overall mix of services, service areas, and target audiences in the regional office's University Center portfolio. If the Selecting Official makes a selection out of rank order, he will document the rationale for the decision in writing.

Informational Teleconferences: For prospective applicants, the Austin regional office will hold an informational teleconference on April 1, 2010, at 1 p.m. CST. The Denver regional office will hold its informational teleconference call on March 19, 2010, at 1 p.m. MST. These teleconferences will provide general program information and information regarding the preparation of applications for funding under this competitive solicitation. To ensure the integrity of this competition, EDA will not provide substantive information regarding the competition to prospective applicants outside of these scheduled teleconferences.

To ensure that enough incoming lines are available for each caller, the Austin regional office requires interested parties planning to participate on the teleconference to register no later than 5 p.m. CST on March 25, 2010; the Denver regional office requires interested parties planning to participate on the teleconference to register no later than 5 p.m. MST on March 16, 2010. To register, please send an email with “FY 2010 University Center Teleconference Registration” in the subject line to the designated contact person in the Austin or Denver regional office as provided above under FOR FURTHER INFORMATION CONTACT. The telephone number and pass code for each teleconference will be provided upon registration.

Please be advised that the informational teleconferences may be audio-taped and the actual recordings or a transcript of the actual recording may be made available online or otherwise for the benefit of prospective applicants unable to participate. Prospective applicants who participate on the teleconferences are deemed to consent to the taping.

The Department of Commerce Pre-Award Notification Requirements for Grants and Cooperative Agreements: Administrative and national policy requirements for all Department of Commerce awards are applicable to this competitive solicitation. These requirements may be found in the Department of Commerce Pre-Award Notification Requirements for Grants and Cooperative Agreements, which was published in the Federal Register on February 11, 2008 (73 FR 7696). This notice may be accessed by entering the Federal Register volume and page number provided in the previous sentence at the following Web site: http://www.gpoaccess.gov/fr/index.html.

Paperwork Reduction Act: This document contains the following collections of information subject to the Paperwork Reduction Act (PRA) and approved by the Office of Management and Budget (OMB): (i) Form ED-900 (OMB Control No. 0610-0094); (ii) Form SF-424 (OMB Control No. 4040-0004); (iii) Form SF-424A (OMB Control No. 4040-0006); (iv) Form SF-424B (OMB Control No. 4040-0007); (v) Form SF-LLL (OMB Control No. 0348-0046). Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 26, 2010.
Brian P. McGowan,
Deputy Assistant Secretary of Commerce for Economic Development Economic Development Administration.

[FR Doc. 2010-4591 Filed 3-4-10; 8:45 am]

BILLING CODE 3510-24-P